DEPARTMENT OF HEALTH AND HUMAN SERVICES

National Institutes of Health

National Institute on Alcohol Abuse and Alcoholism; Amended Notice of Meeting

Notice is hereby given of a change in the meeting of the Clinical, Treatment and Health Services Research Review Subcommittee, June 13, 2016, 08:30 a.m. to June 13, 2016, 06:00 p.m., National Institute on Alcohol Abuse & Alcoholism, 5635 Fishers Lane, Terrace Conference Room 508/509, Rockville, MD, 20852 which was published in the Federal Register on April 07, 2016, 81FR20406.

This meeting is being amended to change the Contact Person from Katrina L. Foster, Ph.D. to Ranga V. Srinivas, Ph.D. The meeting is closed to the public.

Dated: April 26, 2016.
Melanie J. Gray,
Program Analyst, Office of Federal Advisory Committee Policy.

[FR Doc. 2016-10132 Filed 4-28-16; 8:45 am]

BILLING CODE 4140-01-P